DEPARTMENT OF AGRICULTURE

Forest Service

Information Collection; Cooperative Wildland Fire Management and Stafford Act Response Agreements

AGENCY: Forest Service USDA, Bureau of Land Management DOI, Fish and Wildlife Service DOI, National Park Service DOI, and Bureau of Indian Affairs DOI.

ACTION: Notice and request for comment.

SUMMARY: In accordance with the Paperwork Reduction Act of 1995, the Forest Service is seeking comments from all interested individuals and organizations on the new information collection, Cooperative Wildland Fire Management and Stafford Act Response Agreements.

DATES: Comments must be received in writing on or before October 4, 2016 to be assured of consideration. Comments received after that date will be considered to the extent practicable.

ADDRESSES: Comments concerning this notice should be addressed to Tim Melchert, Cooperative Fire Specialist, USDA Forest Service, 1400 Independence Avenue SW., Washington, DC 20250.

Comments also may be submitted via facsimile to 208-387-5398 or by email to: CoopFire_Agreements@fs.fed.us.

The public may inspect comments received at Forest Service, U.S. Department of Agriculture, 1400 Independence Avenue SW., Washington, DC 20250 during normal business hours. Visitors are encouraged to call ahead to 202-205-1637 to facilitate entry to the building.

FOR FURTHER INFORMATION CONTACT: Tim Melchert, Cooperative Fire Specialist, at USDA Forest Service, 208-387-5887.

Individuals who use telecommunication devices for the deaf (TDD) may call the Federal Relay Service (FRS) at 1-800-877-8339 twenty-four hours a day, every day of the year, including holidays.

SUPPLEMENTARY INFORMATION: In accordance with the Paperwork Reduction Act of 1995, Forest Service will submit a request for a new information collection to Office of Management and Budget.

Title: Cooperative Wildland Fire Management and Stafford Act Response Agreements.

OMB Number: 0596—NEW.

Type of Request: New.

Abstract: To allow the performance of specific activities in cooperation with Federal, State, local, and Tribal governments, Congress enacted authorities allowing the U.S. Department of Agriculture (USDA) and U.S. Department of the Interior (DOI) to enter into cooperative agreements with fire organizations to improve efficiency by facilitating the coordination and exchange of personnel, equipment, supplies, services, and funds among the parties in sustaining wildland fire management activities, such as prevention, preparedness, communication and education, fuels treatment and hazard mitigation, fire planning, response strategies, tactics and alternatives, suppression, and post-fire rehabilitation and restoration. In addition, agreements allow for the parties to respond to presidentially declared emergencies or disasters. The primary authorities allowing for the agreements are the Reciprocal Fire Protection Act, 42 U.S.C. 1856, and the Stafford Act, 42 U.S.C. 5121. The proposed Cooperative Wildland Fire Management and Stafford Act Response Agreement template will allow authorized agencies to streamline coordination with other Federal, State, local, and Tribal governments in wildland fire protection activities, and to document in an agreement the roles and responsibilities among the parties, ensuring maximum protection of resources.

To negotiate, develop, and administer Cooperative Wildland Fire Management and Stafford Act Response Agreements, the USDA Forest Service, DOI Bureau of Land Management, DOI Fish and Wildlife Service, DOI National Park Service, and DOI Bureau of Indian Affairs DOI must collect information from willing State, local, and Tribal governments from the pre-agreement to the closeout stage via telephone calls, emails, postal mail, and person-to-person meetings. There are multiple means for cooperators to communicate responses, which include forms, optional forms, templates, electronic documents, in person, telephone, and email. The scope of information collected includes the project type, project scope, financial plan, statement of work, and cooperator's business information. Without the collected information, authorized Federal agencies would not be able to negotiate, create, develop, and administer cooperative agreements with cooperators for to wildland fire protection, approved severity activities, and presidentially declared emergencies or disasters. Authorized Federal agencies would be unable to develop or monitor projects, make payments, or identify financial and accounting errors.

The regulations governing Federal financial assistance relationships are not applicable to agreement templates under this information collection request. The regulations in 2 CFR 200 set forth the general rules that are applicable to all grants and cooperative agreements made by the USDA and DOI. Because the Federal Government's use of Cooperative Wildland Fire Management and Stafford Act Response Agreements entered into under cited Federal statutes are not financial assistance for the benefit of the recipient but instead are entered into for the mutual benefit of the Federal government and the non-Federal cooperators, the assistance regulations in 2 CFR 200, as adopted and supplemented by the USDA and DOI, are not applicable to such agreements.

This is a new information collection request. The Cooperative Wildland Fire Management and Stafford Act Response Agreement template can be viewed at www.fs.fed.us/managing-land/fire/master-agreement-template.

Estimate of Annual Burden: 4 to 24 hours annually per respondent.

Type of Respondents: State, local, and Tribal governments.

Estimated Annual Number of Respondents: 320.

Estimated Annual Number of Responses per Respondent: 1 to 4.

Estimated Total Annual Burden on Respondents: 47,040 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: August 1, 2016.
James E. Hubbard,
Deputy Chief State and Private Forestry.

[FR Doc. 2016-18685 Filed 8-4-16; 8:45 am]

BILLING CODE 3411-15-P